DEPARTMENT OF COMMERCE

National Oceanic and Atmospheric Administration

RIN 0648-XF194

North Pacific Fishery Management Council; Public Meeting

AGENCY: National Marine Fisheries Service (NMFS), National Oceanic and Atmospheric Administration (NOAA), Commerce.

ACTION: Notice of a telephonic meeting.

SUMMARY: The North Pacific Fishery Management Council's Pacific Northwest Crab Industry Advisory Committee (PNCIAC) will meet February 20, 2017.

DATES: The meeting will be held on Monday, February 20, 2017, from 10 a.m. to 5 p.m. PST.

ADDRESSES: The meeting will be held telephonically. Telephone number is 1-800-920-7487, passcode is 7941749#.

Council address: North Pacific Fishery Management Council, 605 W. 4th Ave., Suite 306, Anchorage, AK 99501-2252; telephone: (907) 271-2809.

FOR FURTHER INFORMATION CONTACT: Diana Stram, Council staff; telephone: (907) 271-2809, or Lance Farr, Committee Chair (206) 669-7163.

SUPPLEMENTARY INFORMATION:

Agenda

Monday, February 20, 2017

The Committee will elect officers and review and comment on proposals for the upcoming March BOF meeting.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: January 27, 2017.
Tracey L. Thompson,
Acting Deputy Director, Office of Sustainable Fisheries, National Marine Fisheries Service.

[FR Doc. 2017-02101 Filed 1-31-17; 8:45 am]

BILLING CODE 3510-22-P